ENVIRONMENTAL PROTECTION AGENCY

[OPP-2005-0044; FRL-7700-4]

Full Tribal Pesticide Program Council Meeting; Notice of Public Meeting

AGENCY: Environmental Protection Agency (EPA).

ACTION: Notice.

SUMMARY: The Tribal Pesticide Program Council (TPPC) will hold a 2 and 1/2-day meeting, beginning on March 16 and ending on March 18, 2005. This notice announces the location and times for the meeting, and sets forth the tentative agenda topics. One Tribal Caucus scheduled each day.

DATES: The meeting will be held on March 16-17 2005 from 9:00 A.M. to 5:00 P.M. and a half day training for Tribes on March 18.

ADDRESSES: The meeting will be held at Embassy Suites Hotel, Crystal City, 1300 Jefferson Davis Highway, Arlington, Virginia.

FOR FURTHER INFORMATION CONTACT: Georgia McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov or Lillian Wilmore, TPPC Facilitator, P.O. Box 470829 Brookline Village, MA. 02447-0829; telephone number: (617) 232-5742; fax (617) 277-1656; e-mail address: naecology@aol.com

SUPPLEMENTARY INFORMATION:

I. General Information

A. Does this Action Apply to Me?

You may be potentially affected by this action if you are interested in TPPC's information exchange relationship with EPA regarding important issues related to human health, environmental exposure to pesticides, and insight into EPA's decision-making process. All parties are invited and encouraged to attend the meetings and participate as appropriate. Potentially affected entities may include, but are not limited to those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult either person listed under FOR FURTHER INFORMATION CONTACT.

B. How Can I Get Copies of this Document and Other Related Information?

1. Docket. EPA has established an official public docket for this action under docket identification (ID) number OPP-2005-0044.

The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

1. TPPC State of the Council Report.

2. Presentation, Questions, and Answers by U.S. EPA Office of Pesticide Programs and Field and External Affairs Division.

3. Reports from Working Groups and TPPC Participation in Other Meetings:

Tribal Traditional Lifeways, Tribal Strategy and FOSTTA, Western Region Pesticide Conference, Federal Inspectors Meeting.

4. Tribal Caucus (two).

5. Reports from Other Organizations:

State FIFRA Issues Research and Evaluation Group, TOC, Regional Tribal Operations Committee, Intertribal Agriculture Council, National Tribal Environmental Council, Intertribal Agriculture Council, and TASWER.

6. Endangered Species Protection Program - Update.

7. Homeland Security Update.

8. Development of a Pesticides Pamphlet for Basketweavers.

9. OECA Enforcement Priorities.

10. Memorandum of Understanding Between U.S. EPA Region 7 and 8, Nebraska Department of Agriculture, and Oglala Sioux - Update.

11. FIFRA Section 18 and 24c Issues: Yakama Pilot Project 12.

12. Tribes and Certification and Training (C and T) Issues Discussion.

13. QAPPs and Quality Management Development.

14. Tribal Training Discussion.

15. Data Collection to Support the Need for Resources for Tribal Pesticide Programs: Discussion and Training (Tribes only).

16. Regions Updates - Sub-lead Region 9.

17. TPPC Working Group Invasive Species: the Tribal Invasive Species Committee.

18. Mosquito Misters - State FIFRA Issue Research and Evaluation Group (SFIREG) paper.

19. Performance Measures Update.

20. Report on 2004 Special Project Awards and Information the 2005 Special Projects Solicitation.

21. Lifeline Project Update.

List of Subjects

Environmental protection, insert additional terms as appropriate.

Dated: February 14, 2005.
William R. Diamond,
Acting Division Director, Field External Affairs Division, Office of Pesticide Programs.

[FR Doc. 05-3674 Filed 2-24-05; 8:45 am]

BILLING CODE 6560-50-S